DEPARTMENT OF THE INTERIOR

National Indian Gaming Commission

25 CFR Chapter III

Class II Gaming Regulation Proposals Submitted by Poarch Band of Creek Indians on Behalf of Tribal Gaming Working Group

AGENCY: National Indian Gaming Commission, Interior.

ACTION: Request for comments.

SUMMARY: The National Indian Gaming Commission (NIGC) is publishing for comment Class II Gaming Regulation Proposals submitted on July 28, 2011 by the Poarch Band of Creek Indians (PBCI) on behalf of the Tribal Gaming Working Group (TGWG). PBCI and TGWG state their proposals were drafted with the intent of ensuring that all controls are covered in the current regulations, while at the same time removing some of the strict procedural steps and tasks not appropriately characterized as standards. PBCI and TGWG also assert that the current regulations are difficult to use and apply due to duplication across multiple sections, dated terminology, and procedures that are obsolete and not reflective of current technology.

DATES: Comments must be received on or before October 7, 2011.

ADDRESSES: You may submit comments by any one of the following methods, however, please note that comments sent by electronic mail are strongly encouraged.

• E-mail comments to: reg.review@nigc.gov.

• Mail comments to: Lael Echo-Hawk, Counselor to the Chair, National Indian Gaming Commission, 1441 L Street, NW., Suite 9100, Washington, DC 20005.

• Hand deliver comments to: 1441 L Street, NW., Suite 9100, Washington, DC 20005.

• Fax comments to: Lael Echo-Hawk, Counselor to the Chair, National Indian Gaming Commission at 202-632-0045.

FOR FURTHER INFORMATION CONTACT: Lael Echo-Hawk, Counselor to the Chair, National Indian Gaming Commission, 1441 L Street, NW., Suite 9100, Washington, DC 20005. Telephone: 202-632-7009; email: reg.review@nigc.gov

SUPPLEMENTARY INFORMATION:

I. General Information

The National Indian Gaming Commission (NIGC) is requesting comments on the Class II Gaming Regulation Proposals submitted on July 28, 2011 by the Poarch Band of Creek Indians (PBCI) on behalf of the Tribal Gaming Working Group (TGWG). PBCI and TGWG state their proposals were drafted with the intent of ensuring that all controls are covered in 25 CFR Part 543, while at the same time removing some of the strict procedural steps and tasks not appropriately characterized as standards. PBCI and TGWG also assert that the current regulations are difficult to use and apply due to duplication across multiple sections, dated terminology, and procedures that are obsolete and not reflective of current technology.

A. How can I get copies of this document and other comments submitted in regard to this document?

You can access publicly available documents related to this document at http://www.nigc.gov/Portals/0/NIGC%20Uploads/Tribal%20Consultation/Regulatory%20Review%202010-2011/NRRA/AAAFinalPackageSubmittedNIGCon072911.pdf. Public comments related to this action can be found at http://www.nigc.gov/Tribal_Consultation/Regulatory_Review_2011-2012/Group_3_25_CFR_Parts_543_547.aspx.

B. What should I consider as I prepare my comments for NIGC?

When submitting comments, remember to:

1. Explain why you agree or disagree; suggest alternatives and substitute language for your requested changes.

2. Describe any assumptions and provide any technical information and/or date that you used.

3. If you estimate potential costs of burdens, explain how you arrived at your estimate in sufficient detail to allow for it to be reproduced.

4. Provide specific examples to illustrate your concerns and suggest alternatives. Explain your views as clearly as possible.

5. Make sure to submit your comments by the comment period deadline identified.

II. What action is the agency taking?

NIGC is announcing the availability of Class II Gaming Regulation proposals from PCBI and TGWG and requesting comment from the public.

List of Subjects

Class II Minimum Internal Control Standards, Class II Technical Standards, and related Guidance and Bulletin documents.

Dated: August 10, 2011, Washington, DC.
Tracie L. Stevens,
Chairwoman.
Steffani A. Cochran,
Vice-Chairwoman.
Daniel J. Little,
Associate Commissioner.

[FR Doc. 2011-20721 Filed 8-12-11; 8:45 am]

BILLING CODE P